DEPARTMENT OF AGRICULTURE

Agricultural Marketing Service

[Docket No. FV00-901-3NC]

Notice of Intent to Request OMB Approval for New Information Collection, Marketing Order Committee/Board Interview

AGENCY: Agricultural Marketing Service, USDA.

ACTION: Proposed information collection submitted for public comment and notice.

SUMMARY: In accordance with the Paperwork Reduction Act of 1995 (44 U.S.C. Chapter 35), this notice announces the Agricultural Marketing Service's (AMS) intention to request approval of a new information collection under fruit, vegetable, and specialty crop marketing orders and agreements (orders and agreements). This information is to be used to conduct interviews of managers and committee and board members for order and agreement programs. Participants' information would be voluntarily supplied by those willing to respond. An interview would consist of about 15 questions regarding committee and board member participation and about concerns about serving on an order or agreement committee or board.

DATES: Comments on this notice must be received by November 13, 2000, to be assured of consideration.

ADDITIONAL INFORMATION OR COMMENTS: Caroline Thorpe, Marketing Specialist, Marketing Order Administration Branch, Fruit and Vegetable Programs, AMS, USDA, P.O. Box 96456, Telephone: (202) 720-8139, Fax: (202) 720-5698, or E-mail: moab.docketclerk@usda.gov.

Small businesses may request information on this notice by contacting Jay Guerber, Regulatory Fairness Representative, Marketing Order Administration Branch, Fruit and Vegetable Programs, AMS, USDA, room 2525-S, P.O. Box 96456, Washington, D.C. 20090-6456; telephone (202) 720-2491, Fax: (202) 720-5698, or E-mail: Jay.Guerber@usda.gov.

SUPPLEMENTARY INFORMATION: Title: Marketing Order Committee/Board Interview.

OMB Number: 0581-NEW.

Expiration Date of Approval: Three years from date of approval.

Type of Request: Approval for Interview Questions.

Abstract: Order and agreement programs provide an opportunity for producers of fresh fruit, vegetables, and specialty crops, in specified production areas, to work together to solve marketing problems that cannot be solved individually. Order and agreement regulations help ensure adequate supplies of high quality products for consumers and adequate returns to producers. Under the Agricultural Marketing Agreement Act of 1937 (Act), as amended (7 U.S.C. 601-674), industries enter into order and agreement programs. The Secretary of Agriculture is authorized to oversee order operations and issue regulations recommended by a committee or board of representatives from each regulated commodity industry. Orders and agreements regulate the handling of certain commodities and are administered locally by industry committees and boards. Currently, there are 37 orders and agreements in effect.

The information collection requirements in this request are essential to carry out the intent of the Act, under 7 U.S.C. 608(c) 7. The purpose would be to provide training to current and prospective members of committees and boards, improve diversity on the committees and boards of the orders and agreements, and to more effectively administer the order and agreement programs.

The Department of Agriculture (USDA) is encouraging eligible women, minorities, and people with disabilities to participate on USDA's order and agreement committees and boards. In order to encourage a more comprehensive participation on order and agreement programs, AMS would like to better understand the factors that encourage or discourage committee or board participation.

Under the orders and agreements, producers and handlers are nominated by their respective peers. These nominees then serve as representatives on their respective committees or boards and must file background questionnaires and acceptance letters or statements with the Secretary.

This information collection is to be used to conduct interviews of managers and committee and board members for order and agreement programs. Participants' information would be voluntarily supplied by those willing to respond. An interview would consist of about 15 questions regarding committee and board member participation and about concerns about serving on an order or agreement committee or board. The interview questions covered under this information collection will require the minimum information necessary to effectively carry out the intent.

The information collected is used only by authorized representatives of the USDA, including AMS, Fruit and Vegetable Programs' regional and headquarter's staff. Authorized representatives of the USDA are the primary users of the information and AMS authorized committee and board employees are the secondary users of the information.

Estimate of Burden: Public reporting burden for this collection of information is estimated to average 1 hour per response.

Respondents: All selected members and managers of fruit, vegetable, and specialty crop order and agreement committees and boards.

Estimated Number of Respondents: 50.

Estimated number of Responses per Respondent: 1.

Estimated Total Annual Burden on Respondents: 50 hours.

Comments are invited on: (1) Whether the proposed collection of information is necessary for the proper performance of the functions of the agency, including whether the information will have practical utility; (2) the accuracy of the agency's estimate of the burden of the proposed collection of information, including the validity of methodology and assumptions used; (3) ways to enhance the quality, utility, and clarity of the information to be collected; and (4) ways to minimize the burden of the collection of information on those who are to respond, including through the use of appropriate automated electronic, mechanical, or other technological collection techniques or other forms of information technology.

Comments should reference this docket number and the appropriate order or agreement, and be mailed to the Docket Clerk, Fruit and Vegetable Programs, AMS, USDA, P.O. Box 96456, room 2525-S, Washington, DC 20090-6456; Fax: (202) 720-5698; or E-mail: moab.docketclerk@usda.gov. Comments should reference the docket number and the date and page number of this issue of the Federal Register. All comments received will be available for public inspection in the Office of the Docket Clerk during regular USDA business hours at 14th and Independence Avenue, SW., Washington, DC, room 2525-South Building.

All responses to this notice will be summarized and included in the request for OMB approval. All comments will become a matter of public record.

Dated: September 8, 2000.
Robert C. Keeney,
Deputy Administrator, Fruit and Vegetable Programs.

[FR Doc. 00-23505 Filed 9-12-00; 8:45 am]

BILLING CODE 3410-02-P